NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Pub. L. 104-13. This is the second notice for public comment; the first was published in the Federal Register at 72 FR 11912, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

Title of Collection: Evaluation of the Historically Black Colleges and Universities Undergraduate Program.

OMB Control No.: 3145-0204.

Abstract: The National Science Foundation (NSF) requests revision and extension of a currently approved data collection (e.g., interviews, surveys, focus groups, site visits protocols) measuring NSF's contribution to the Nation's Historically Black Colleges and Universities (HBCU) enterprise and overall science and engineering workforce. This continuation expands the data collection most recently approved through October 2009 (OMB 3145-0204) beyond the student respondents to administrators, faculty and other participants, observers, or beneficiaries in undergraduate programs in Science, Technology, Engineering and Mathematics (STEM) at Historically Black Colleges and Universities. NSF is reissuing this notice because the first notice did not make clear that there would be both individual and institutional respondents to these data collections.

NSF funds a program, called Historically Black Colleges and Universities Undergraduate Program (HBCU-UP), designed to help institutions strengthen the quality of their undergraduate STEM programs. For more information about HBCU-UP please visit the NSF Web site at: http://www.nsf.gov/funding/pgm_summ.jsp?pims_id=5481&org=HRD&from=home.

The Urban Institute (UI) is conducting an evaluation of the HBCU-UP program which received initial approval from the Office of Management and Budget (OMB) on 31 October 2006.

Using a multiple-methods approach, UI researchers are conducting an evaluation to study the effectiveness of the program. The evaluation will include both process and summative components. The process component will document how different models within the Program are being implemented, thus helping evaluators to link strategies to outcomes, identify crucial components of different models, and contribute to the construction of general theories to guide future initiatives to increase the diversity of the STEM workforce. The summative component of the evaluation will focus on the extent to which the Program has produced outcomes that meet stated goals for students, faculty and institutions. The process evaluation relies mainly on qualitative data collected during case study site visits and interviews; the summative evaluation will rely primarily on data collected through a survey of graduates and faculty.

NSF uses the UI analysis to prepare and publish reports and to respond to requests from Committees of Visitors, Congress and the Office of Management and Budget, particularly as related to the Government Performance and Results Act (GPRA) and the Program Effectiveness Rating Tool (PART). The HBCU-UP study's broad questions include but are not limited to:

What do individuals following post-participation in HBCU-UP or other NSF-funded undergraduate education opportunities do? Do HBCU-UP or other NSF-funded opportunities provide graduates with the professional and/or research skills needed to work in science and engineering? ARE HBCU-UP or other NSF-sponsored students and faculty satisfied that their NSF-funded experience advanced their careers in science or engineering? to what extent do HBCU-UP or other former-NSF-sponsored graduates engage in the science and engineering workforce conduct inter- or multi-disciplinary science? Is there evidence of a legacy from NSF-funding that changed a degree-granting department beyond number of students supported and degrees awarded? To what extent have projects achieved or contributed to individual project goals or the NSF program goals? To what extent have NSF-funded projects or programs broadened participation by diverse individuals, particularly individuals traditionally underemployed in science or engineering, including but not limited to women, minorities, and persons-with-disabilities?

Respondents: Individuals or households, not-for-profit institutions, business or other for profit, and Federal, State, Local or Tribal Government

Estimated Number of Annual Respondents: 4,155 (total).

Burden on the Public: 1,074 hours.

Dated: October 11, 2007.
Suzanne H. Plimpton,
Reports Clearance Officer, National Science Foundation.

[FR Doc. 07-5104 Filed 10-16-07; 8:45 am]

BILLING CODE 7555-01-M